DEPARTMENT OF HEALTH AND HUMAN SERVICES

Administration for Community Living

Agency Information Collection Activities; Proposed Collection; Public Comment Request; Extension of the Certification of Maintenance of Effort for Title III and Certification of Long-Term Care Ombudsman Program Expenditures

AGENCY: Administration for Community Living, HHS.

ACTION: Notice.

SUMMARY: The Administration for Community Living (ACL) is announcing an opportunity for public comment on two proposed collections of certain information by the agency. Under the Paperwork Reduction Act of 1995 (the PRA), Federal agencies are required to publish a notice in the Federal Register concerning each proposed collection of information, including each proposed extension of an existing collection of information, and to allow 60 days for public comment in response to the notice.

DATES: Submit written or electronic comments on the collection of information by September 18, 2017.

ADDRESSES: Submit electronic comments on the collection of information to: Jesse E. Moore, Jr. at jesse.moore@acl.hhs.gov. Submit written comments on the collection of information to Administration for Community Living, Washington, DC 20201, attention Jesse Moore.

FOR FURTHER INFORMATION CONTACT: Jesse E. Moore, Jr., Aging Services Program Specialist, Administration for Community Living, Washington, DC 20201, 202-795-7578.

SUPPLEMENTARY INFORMATION: Under the PRA (44 U.S.C. 3501-3520), Federal agencies must obtain approval from the Office of Management and Budget (OMB) for each collection of information they conduct or sponsor. “Collection of information” is defined in 44 U.S.C. 3502(3) and 5 CFR 1320.3(c) and includes agency requests or requirements that members of the public submit reports, keep records, or provide information to a third party.

Section 3506(c)(2)(A) of the PRA (44 U.S.C. 3506(c)(2)(A)) requires Federal agencies to provide a 60-day notice in the Federal Register concerning each proposed collection of information, including each proposed extension of an existing collection of information, before submitting the collection to OMB for approval. To comply with this requirement, ACL is publishing a notice of the proposed collection of information set forth in this document. With respect to the following collection of information, ACL invites comments on: (1) Whether the proposed collection of information is necessary for the proper performance of ACL's functions, including whether the information will have practical utility; (2) the accuracy of ACL's estimate of the burden of the proposed collection of information, including the validity of the methodology and assumptions used; (3) ways to enhance the quality, utility, and clarity of the information to be collected; and (4) ways to minimize the burden of the collection of information on respondents, including through the use of automated collection techniques when appropriate, and other forms of information technology. This notice solicits comments on the information collection requirements relating to: (1) The Certification on Maintenance of Effort under Title III of the Older Americans Act (OAA); and (2) Certification of Long-Term Care Ombudsman Program Expenditures for Older Americans Act Title III and Title VII Grantees. These proposed data collections would extend the Certification of Maintenance of Effort for Title III, and make minor revisions to, and extend, the Certification of Long-Term Care Ombudsman Program Expenditures. While separate in terms of the data gathered, the financial review and certification of funds processes that are completed to generate the information gathered on these forms are generally done at the same time by the States. To reduce burden, these forms are being presented together for renewal since both are issued under the same Program Instruction, and they have the same due date to ACL.

The Certification of Maintenance of Effort under Title III and Certification of Long-Term Care Ombudsman (LTCO) Program Expenditures provide statutorily required information regarding each state's contribution to programs funded under the Older Americans Act and compliance with legislative requirements, pertinent Federal regulations, and other applicable instructions and guidelines issued by ACL. This information will be used for Federal oversight of Title III Programs and Title VII Ombudsman Program expenditures.

In addition to renewing OMB approval of these data collection instruments, minor changes are being proposed to the LTCO Expenditures Certification and an accompanying document which provides specific statutory references related to Ombudsman program minimum funding, non-supplanting requirements and state authorization to expend Title III-B funds on Ombudsman activities. Specifically, changes include making the reference to the Fiscal Year at the bottom of the form a fillable field to allow the date to be changed annually; listing the “Administration for Community Living (ACL)” as the intended recipient of the completed form; and updating statutory language references (i.e., Section 306(a)(9)) provided on the second page, to reflect changes made during the 2016 reauthorization of the OAA.

ACL estimates the burden of this collection of information as follows: 56 State Agencies on Aging respond annually, and it takes each agency an average of one half (½) hour per State agency per year to complete each form for a total of twenty-eight hours for all state agencies annually. The half hour estimate is based on prior years' experience with States in completing these forms.

The proposed data collection tools may be found on the ACL Web site for review at: https://www.acl.gov/sites/default/files/programs/2017-06/MOE%20and%20LTCO%20Certification%202017%20-%20FINAL.pdf.

Respondent/data collection activity | Number of respondents | Responses per respondent (/year) | Hours per response | Annual burden hours
Certification on Maintenance of Effort under Title III | 56 | 1 | ½ | 28
Certification of Long-Term Care Ombudsman Program Expenditures | 56 | 1 | ½ | 28
Total | 112 | 2 | 1 | 56

Dated: July 11, 2017.
Mary Lazare,
Acting Administrator and Assistant Secretary for Aging.

[FR Doc. 2017-14962 Filed 7-18-17; 8:45 am]

BILLING CODE 4154-01-P